ENVIRONMENTAL PROTECTION AGENCY

DEPARTMENT OF DEFENSE

40 CFR Part 1700

[EPA-HQ-OW-2013-0469; FRL-9959-30-OW]

Uniform National Discharge Standards for Vessels of the Armed Forces—Phase II Batch One: Delay of Effective Date

AGENCY: Environmental Protection Agency (EPA) and Department of Defense (DOD).

ACTION: Final rule; delay of effective date.

SUMMARY: In accordance with the Presidential directive as expressed in the memorandum of January 20, 2017, from the Assistant to the President and Chief of Staff, entitled “Regulatory Freeze Pending Review,” this action temporarily delays until March 21, 2017, the effective date of the rule entitled Uniform National Discharge Standards for Vessels of the Armed Forces—Phase II Batch One, published in the Federal Register on January 11, 2017.

DATES: This final rule is effective February 8, 2017. The effective date of the regulation titled Uniform National Discharge Standards for Vessels of the Armed Forces—Phase II Batch One, published in the Federal Register on January 11, 2017, at 82 FR 3173, is delayed from February 10, 2017 to a new effective date of March 21, 2017.

FOR FURTHER INFORMATION CONTACT: Katherine B. Weiler, Marine Pollution Control Branch (4504T), U.S. EPA, 1200 Pennsylvania Avenue NW., Washington, DC 20460; (202) 566-1280; weiler.katherine@epa.gov, or Mike Pletke, Chief of Naval Operations (N45), 2000 Navy Pentagon (Rm. 2D253), Washington, DC 20350-2000; (703) 695-5184; mike.pletke@navy.mil.

SUPPLEMENTARY INFORMATION: Environmental Protection Agency (EPA) and Department of Defense (DOD) base this action on the Presidential directive as expressed in the memorandum of January 20, 2017, from the Assistant to the President and Chief of Staff, entitled “Regulatory Freeze Pending Review.” That memorandum directed the heads of Executive Departments and Agencies to temporarily postpone for sixty days from the date of the memorandum the effective dates of all regulations that had been published in the Federal Register but had not yet taken effect. The rule entitled Uniform National Discharge Standards for Vessels of the Armed Forces—Phase II Batch One is subject to the effective date delay. The new effective date for the regulation is March 21, 2017.

The EPA's and DOD's implementation of this action without opportunity for public comment is based on the good cause exceptions in 5 U.S.C. 553(b)(B) and 553(d)(3), in that seeking public comment is impracticable, unnecessary and contrary to the public interest. The temporary delay in effective date until March 21, 2017, is necessary to give the EPA and DOD officials the opportunity for further review and consideration of new regulation, consistent with the memorandum of the Assistant to the President and Chief of Staff, dated January 20, 2017. Given the imminence of the effective date, seeking prior public comment on this temporary delay would have been impractical, as well as contrary to the public interest in the orderly promulgation and implementation of regulations.

By focusing the two agencies' attention on the substance of the regulation rather than soliciting comment on a decision to delay their effective date until March 21, 2017, the EPA and DOD can minimize or obviate the need for further temporary delays beyond March 21, 2017.

For the foregoing reasons, the good cause exceptions in 5 U.S.C. 553(b)(B) and 553(d)(3) also apply to the EPA's and DOD's decisions to make this action effectively immediately.

If deemed appropriate, the EPA and DOD may consider delaying the effective date of this regulation beyond March 21, 2017. If the EPA and DOD were to do so, consistent with the memorandum of the Assistant to the President and Chief of Staff, the two agencies would propose any later effective date for public comment.

Dated: January 27, 2017.
Catherine McCabe,
Acting Administrator.
Dated: January 27, 2017.
Steven R. Iselin,
Acting Assistant Secretary of the Navy (Energy, Installations, and Environment).

[FR Doc. 2017-02594 Filed 2-7-17; 8:45 am]

BILLING CODE 6560-50-P